DEPARTMENT OF THE INTERIOR

Bureau of Land Management

[234.LLHQ220000.L10200000.PK0000; OMB Control Number 1004-0041]

Agency Information Collection Activities; Submission to the Office of Management and Budget for Review and Approval; Authorizing Grazing Use

AGENCY: Bureau of Land Management, Interior.

ACTION: Notice of information collection; request for comment.

SUMMARY: In accordance with the Paperwork Reduction Act of 1995 (PRA), the Bureau of Land Management (BLM) proposes to renew an information collection.

DATES: Interested persons are invited to submit comments on or before October 25, 2023.

ADDRESSES: Written comments and recommendations for this information collection request (ICR) should be sent within 30 days of publication of this notice to www.reginfo.gov/public/do/PRAMain. Find this particular information collection by selecting “Currently under 30-day Review—Open for Public Comments” or by using the search function.

FOR FURTHER INFORMATION CONTACT: To request additional information about this ICR, contact Jessica Phillips by email at jmphillips@blm.gov, or by telephone at 406-490-5654. Individuals in the United States who are deaf, deafblind, hard of hearing, or have a speech disability may dial 711 (TTY, TDD, or TeleBraille) to access telecommunications relay services. Individuals outside the United States should use the relay services offered within their country to make international calls to the point-of-contact in the United States. You may also view the ICR at http://www.reginfo.gov/public/do/PRAMain.

SUPPLEMENTARY INFORMATION: In accordance with the PRA (44 U.S.C. 3501 et seq.) and 5 CFR 1320.8(d)(1), we invite the public and other Federal agencies to comment on new, proposed, revised and continuing collections of information. This helps the BLM assess impacts of its information collection requirements and minimize the public's reporting burden. It also helps the public understand BLM information collection requirements and ensure requested data are provided in the desired format.

A Federal Register notice with a 60-day public comment period soliciting comments on this collection of information was published on June 13, 2023 (88 FR 38530). No comments were received in response to that notice.

As part of our continuing effort to reduce paperwork and respondent burdens, we are again inviting the public and other Federal agencies to comment on the proposed ICR described below. The BLM is especially interested in public comment addressing the following:

(1) Whether the collection of information is necessary for the proper performance of the functions of the agency, including whether the information will have practical utility.

(2) The accuracy of our estimate of the burden for this collection of information, including the validity of the methodology and assumptions used.

(3) Ways to enhance the quality, utility, and clarity of the information to be collected; and

(4) How might the agency minimize the burden of the collection of information on those who are to respond, including the use of appropriate automated, electronic, mechanical, or other technological collection techniques or other forms of information technology, e.g., permitting electronic submission of response.

Comments submitted in response to this notice are a matter of public record. Before including your address, phone number, email address, or other personal identifying information in your comment, you should be aware that your entire comment—including your personal identifying information—may be made publicly available at any time. While you can ask us in your comment to withhold your personal identifying information from public review, we cannot guarantee that we will be able to do so.

Abstract: The Taylor Grazing Act of 1934 (43 U.S.C. 315) and the Federal Land Policy and Management Act of 1976 (43 U.S.C. 1701) authorize the Bureau of Land Management (BLM) to administer the livestock grazing program consistent with land use plans, multiple use objectives, sustained yield, environmental values, economic considerations, and other factors. Maintaining accurate records of permittee and lessee qualifications for a grazing permit or lease, base property used in conjunction with public lands, and the actual use made by livestock authorized to graze on the public lands, is an important and integral part of the program administration and grazing management. The regulations at 43 CFR 4110.1 and 43 CFR 4110.2 require application and notice to the BLM to transfer grazing preference and to apply for a permit or lease in conjunction with a preference transfer. The regulations at 43 CFR 4130.1 require existing permittees and lessees to apply to the BLM for changes in their authorized grazing. The regulations at 43 CFR 4130.3-2(d) allow the BLM to require permittees or lessees operating under a grazing permit or lease to submit an actual grazing use report within 15 days after completing their annual grazing use, or as otherwise specified in the permit or lease. The regulations at 43 CFR 4130.6-1 allow BLM to enter into “exchange-of-use” agreements with applicants who own or control lands that are unfenced and intermingled with public lands within an allotment. The BLM requires applicants, permittees, and lessees to submit the required information on Forms 4130-1, 4130-1a, 4130-1b, 4130-3a, 4130-4, and 4130-5. This OMB Control Number is currently scheduled to expire on April 30, 2024. The BLM request that OMB renew this OMB Control Number for an additional three (3) years.

Title of Collection: Authorizing Grazing Use (43 CFR subparts 4110 and 4130).

OMB Control Number: 1004-0041.

Form Numbers: 4130-1, 4130-1a, 4130-1b, 4130-3a, 4130-4, and 4130-5.

Type of Review: Extension of a currently approved collection.

Respondents/Affected Public: Any U.S. citizen or validly licensed business may apply for a BLM grazing permit or lease. The BLM administers nearly 18,000 permits and leases for grazing domestic livestock, at least part of the year on public lands.

Total Estimated Number of Annual Respondents: 18,010.

Total Estimated Number of Annual Responses: 33,810.

Estimated Completion Time per Response: Varies from 10 to 35 minutes, depending on activity.

Total Estimated Number of Annual Burden Hours: 7,855.

Respondent's Obligation: Required to obtain or retain a benefit.

Frequency of Collection: On occasion.

Total Estimated Annual Nonhour Burden Cost: $30,000.

An agency may not conduct or sponsor and, notwithstanding any other provision of law, a person is not required to respond to a collection of information unless it displays a currently valid OMB control number.

The authority for this action is the Paperwork Reduction Act of 1995 (44 U.S.C. 3501 et seq.).

Darrin King,
Information Collection Clearance Officer.

[FR Doc. 2023-20712 Filed 9-22-23; 8:45 am]

BILLING CODE 4310-84-P